DEPARTMENT OF THE INTERIOR

Fish and Wildlife Service

50 CFR Parts 2, 10, 13, 15, 21, 29, 80, 84, 85, and 100

[Docket No. FWS-HQ-BPHR-2012-0089; FXGO16600954000-134-FF09B30000]

RIN 1018-AY13

Addresses of Regional Offices

AGENCY: Fish and Wildlife Service, Interior.

ACTION: Final rule.

SUMMARY: We, the U.S. Fish and Wildlife Service (Service), are updating the names and addresses of our regional offices in our regulations at title 50 of the Code of Federal Regulations. We are also making other revisions to our regulations, such as updating the names and phone numbers of certain other Service offices. We are taking these actions to ensure regulated entities and the general public have accurate contact information for the Service's offices.

DATES: This rule is effective June 12, 2013.

ADDRESSES: This final rule is available on the Internet at http://www.regulations.gov under Docket No. FWS-HQ-BPHR-2012-0089.

FOR FURTHER INFORMATION CONTACT: Andrew Brown, 703-358-2179.

SUPPLEMENTARY INFORMATION: Section 2.2 of the regulations in title 50 of the Code of Federal Regulations (CFR) provides the names, geographic jurisdictions, and addresses of the Service's regional offices. Before publication of this rule, the names, geographic jurisdictions, and addresses of our regional offices had not been updated since 1998. This final rule updates the names and addresses of the regional offices for our Regions 1 through 7; removes California and Nevada from the geographic jurisdiction of our Region 1; and provides the name, geographic jurisdiction (California and Nevada), and address for our Region 8.

This final rule also revises regulations at 50 CFR parts 10, 13, 21, 29, 84, 85, and 100 that duplicate regional office addresses. To increase efficiency, reduce redundancy, and ensure that all information is accurate and up-to-date, we are removing duplicate addresses for our regional offices throughout our regulations. Instead, we refer the reader to 50 CFR 2.2 for the addresses of our regional offices. These revisions also include, where applicable, adding updated contact information, such as telephone and fax numbers, for Service offices. See the Regulation Promulgation section of this rule for the specific revisions we are making to these regulations.

Additionally, this final rule revises regulations at 50 CFR parts 84 and 85 that included an outdated name of a Service division. To provide accurate contact information, we are removing references to the “Division of Federal Aid,” and replacing them with the current name of the program: Wildlife and Sport Fish Restoration. As well, this final rule revises regulations at 50 CFR parts 80, 84, and 85 that include an outdated name for the Service's Arlington office. We are removing references to the “Washington Office,” and replacing them with the up-to-date name of the office: Headquarters. See the Regulation Promulgation section of this rule for the specific revisions we are making to these regulations.

Finally, we are correcting the authority citation for 50 CFR part 15 and revising, to reduce redundancy and correct sequence, the authority citations for 50 CFR parts 10, 21, and 29.

These actions are administrative in nature. We are providing regulated entities and the general public with accurate contact information for the Service's offices. Under 5 U.S.C. 553(b), rules of agency organization, procedure, or practice may be made final without previous notice to the public. This is a final rule. In addition, under 5 U.S.C. 553(d), we may make this rule effective in less than 30 days if we have “good cause” to do so. The rule provides accurate contact information for our offices, and this action will benefit regulated entities and the general public. Therefore, we find that we have “good cause” to make this rule effective immediately.

Required Determinations

Regulatory Planning and Review—Executive Orders 12866 and 13563

Executive Order 12866 provides that the Office of Information and Regulatory Affairs (OIRA) will review all significant rules. The OIRA has determined that this rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act (5 U.S.C. 601 et seq.)

Under the Regulatory Flexibility Act (5 U.S.C. 601 et seq., as amended by the Small Business Regulatory Enforcement Fairness Act (SBREFA) of 1996 (Pub. L. 104-121)), whenever an agency is required to publish a notice of rulemaking for any proposed or final rule, it must prepare and make available for public comment a regulatory flexibility analysis that describes the effect of the rule on small entities (that is, small businesses, small organizations, and small government jurisdictions). However, no regulatory flexibility analysis is required if the head of an agency certifies the rule will not have a significant economic impact on a substantial number of small entities.

SBREFA amended the Regulatory Flexibility Act to require Federal agencies to provide the statement of the factual basis for certifying that a rule will not have a significant economic impact on a substantial number of small entities.

We have examined this rule's potential effects on small entities as required by the Regulatory Flexibility Act, and have determined that this action will not have a significant economic impact on a substantial number of small entities. This rule updates the contact information for our offices in our regulations in Title 50 of the Code of Federal Regulations. We are taking this action to ensure that regulated entities and the general public have accurate contact information for the Service's offices. This rule will not result in any costs or benefits to any entities, large or small.

Therefore, we certify that, because this rule will not have a significant economic effect on a substantial number of small entities, a regulatory flexibility analysis is not required.

This rule is not a major rule under the SBREFA (5 U.S.C. 804(2)). It will not have a significant economic impact on a substantial number of small entities.

a. This rule does not have an annual effect on the economy of $100 million or more. There are no costs to any entities resulting from these revisions to the regulations.

b. This rule will not cause a major increase in costs or prices for consumers, individual industries, Federal, State, or local government agencies, or geographic regions. The updating of the Service's contact information does not affect costs or prices in any sector of the economy.

c. This rule will not have significant adverse effects on competition, employment, investment, productivity, innovation, or the ability of U.S.-based enterprises to compete with foreign-based enterprises.

Unfunded Mandates Reform Act

In accordance with the Unfunded Mandates Reform Act (2 U.S.C. 1501 et seq.), we have determined the following:

a. This rule will not “significantly or uniquely” affect small governments in a negative way. A small government agency plan is not required.

b. This rule will not produce a Federal mandate of $100 million or greater in any year. It is not a “significant regulatory action” under the Unfunded Mandates Reform Act.

Takings

Under the criteria outlined in E.O. 12630, this final rule does not have significant takings implications. This rule does not contain a provision for taking of private property. A takings implication assessment is not required.

Federalism

This rule does not have sufficient Federalism effects to warrant preparation of a federalism summary impact statement under E.O. 13132.

Civil Justice Reform

In accordance with E.O. 12988, the Office of the Solicitor has determined that the rule does not unduly burden the judicial system and meets the requirements of sections 3(a) and 3(b)(2) of the Order.

Paperwork Reduction Act

This rule does not contain any information collection that would require approval under the Paperwork Reduction Act of 1995 (44 U.S.C. 3501 et seq.). A Federal agency may not conduct or sponsor, and a person is not required to respond to, a collection of information unless it displays a currently valid OMB control number.

National Environmental Policy Act

We evaluated the environmental impacts of the changes to the regulations, and determined that this rule does not have any environmental impacts.

Government-to-Government Relationship With Tribes

In accordance with the President's memorandum of April 29, 1994, “Government-to-Government Relations With Native American Tribal Governments” (59 FR 22951), Executive Order 13175, and 512 DM 2, we have evaluated potential effects on Federally recognized Indian Tribes and have determined that this rule will not interfere with Tribes' ability to manage themselves or their funds. This rule offers Tribes and the general public accurate contact information for our offices.

Energy Supply, Distribution, or Use

E.O. 13211 requires agencies to prepare Statements of Energy Effects when undertaking certain actions. Because this rule is administrative, it is not a significant regulatory action under E.O. 12866, and it will not significantly affect energy supplies, distribution, or use. Therefore, this action is not a significant energy action and no Statement of Energy Effects is required.

List of Subjects

50 CFR Part 2

Organization and functions (Government agencies).

50 CFR Part 10

Exports, Fish, Imports, Law enforcement, Plants, Transportation, Wildlife.

50 CFR Part 13

Administrative practice and procedure, Exports, Fish, Imports, Plants, Reporting and recordkeeping requirements, Transportation, Wildlife.

50 CFR Part 15

Imports, Reporting and recordkeeping requirements, Wildlife.

50 CFR Part 21

Exports, Hunting, Imports, Reporting and recordkeeping requirements, Transportation, Wildlife.

50 CFR Part 29

Public lands—mineral resources, Public lands—rights-of-way, Wildlife refuges.

50 CFR Part 80

Fish, Grant programs—natural resources, Reporting and recordkeeping requirements, Signs and symbols, Wildlife.

50 CFR Part 84

Coastal zone, Environmental protection, Grant programs—natural resources, Intergovernmental relations, Marine resources, Reporting and recordkeeping requirements, Wildlife.

50 CFR Part 85

Coastal zone, Grant programs—natural resources, Reporting and recordkeeping requirements, Sewage disposal, Vessels.

50 CFR Part 100

Administrative practice and procedure, Alaska, Fish, National forests, Public lands, Reporting and recordkeeping requirements, Wildlife.

Regulation Promulgation

Accordingly, we amend parts 2, 10, 13, 15, 21, 29, 80, 84, 85, and 100 of chapter I, title 50 of the Code of Federal Regulations, as set forth below:

PART 2—FIELD ORGANIZATION

1. The authority citation for part 2 continues to read as follows:

Authority: 5 U.S.C. 301.

2. Revise § 2.2 to read as follows:

§ 2.2 Locations of regional offices.

The geographic jurisdictions and addresses of the U.S. Fish and Wildlife regional offices are as follows:

(a) Pacific Regional Office (Region 1—comprising the States of Hawaii, Idaho, Oregon, and Washington; the Commonwealth of the Northern Mariana Islands; and American Samoa, Guam, and other Pacific possessions), Eastside Federal Complex, 911 NE. 11th Avenue, Portland, Oregon 97232.

(b) Southwest Regional Office (Region 2—comprising the States of Arizona, New Mexico, Oklahoma, and Texas), 500 Gold Avenue SW., Room 9018 (P.O. Box 1306), Albuquerque, New Mexico 87102.

(c) Midwest Regional Office (Region 3—comprising the States of Illinois, Indiana, Iowa, Michigan, Minnesota, Missouri, Ohio, and Wisconsin), 5600 American Boulevard West, Suite 990, Bloomington, Minnesota 55437.

(d) Southeast Regional Office (Region 4—comprising the States of Alabama, Arkansas, Florida, Georgia, Kentucky, Louisiana, Mississippi, North Carolina, South Carolina, and Tennessee; the Commonwealth of Puerto Rico; and the Virgin Islands and Caribbean possessions), 1875 Century Boulevard, Suite 400, Atlanta, Georgia 30345.

(e) Northeast Regional Office (Region 5—comprising the States of Connecticut, Delaware, Maine, Maryland, Massachusetts, New Hampshire, New Jersey, New York, Pennsylvania, Rhode Island, Vermont, Virginia, and West Virginia; and the District of Columbia), 300 Westgate Center Drive, Hadley, Massachusetts 01035.

(f) Mountain-Prairie Regional Office (Region 6—comprising the States of Colorado, Kansas, Montana, Nebraska, North Dakota, South Dakota, Utah and Wyoming), 134 Union Boulevard (P.O. Box 25486), Lakewood, Colorado 80228.

(g) Alaska Regional Office (Region 7—comprising the State of Alaska), 1011 E. Tudor Road, Anchorage, Alaska 99503.

(h) Pacific Southwest Regional Office (Region 8—comprising the States of California and Nevada), 2800 Cottage Way, Room W-2606, Sacramento, California 95825.

PART 10—GENERAL PROVISIONS

3. Revise the authority citation for part 10 to read as follows:

Authority: 16 U.S.C. 668a-d, 703-712, 742a-j-l, 1361-1384, 1401-1407, 1531-1543, 3371-3378; 18 U.S.C. 42; 19 U.S.C. 1202.

4. Revise § 10.22 to read as follows:

§ 10.22 Law enforcement offices.

(a) Service law enforcement offices are located in Service regional offices. Regional office addresses are provided at 50 CFR 2.2. Mail should be addressed to “Special Agent in Charge, Office of Law Enforcement, U.S. Fish and Wildlife Service” at the appropriate regional office address. Telephone numbers for Service law enforcement offices follow:

Region | Law enforcement office telephone number
1 | 503-231-6125
2 | 505-248-7889
3 | 612-713-5320
4 | 404-679-7057
5 | 413-253-8274
6 | 303-236-7540
7 | 907-786-3311
8 | 916-414-6660

(b) Any foreign country should contact the Service's Headquarters Law Enforcement Office at: Office of Law Enforcement, U.S. Fish and Wildlife Service, 4401 N. Fairfax Drive, MS: LE-3000, Arlington, VA 22203-3247; Telephone: 703-358-1949.

PART 13—GENERAL PERMIT PROCEDURES

5. The authority citation for part 13 continues to read as follows:

Authority: 16 U.S.C. 668a, 704, 712, 742j-l, 1374(g), 1382, 1538(d), 1539, 1540(f), 3374, 4901-4916; 18 U.S.C. 42; 19 U.S.C. 1202; 31 U.S.C. 9701.

6. Amend § 13.11 by revising paragraph (b)(5) to read as follows:

§ 13.11 Application procedures.

* * * * *

(b) * * *

(5) You may obtain applications for bald and golden eagle permits (50 CFR part 22) and migratory bird permits (50 CFR part 21), except for banding and marking permits, from, and you may submit completed applications to, the “Migratory Bird Permit Program Office” in the Region in which you reside. For addresses of the regional offices, see 50 CFR 2.2, or go to: http://www.fws.gov/migratorybirds/mbpermits/Addresses.html.

* * * * *

PART 15—WILD BIRD CONSERVATION ACT

7. Revise the authority citation for part 15 to read as follows:

Authority: 16 U.S.C. 4901-4916.

PART 21—MIGRATORY BIRD PERMITS

8. Revise the authority citation for part 21 to read as follows:

Authority: 16 U.S.C. 703-712.

9. Amend § 21.29 by revising paragraph (e)(3)(ii)(E) to read as follows:

§ 21.29 Falconry standards and falconry permitting.

* * * * *

(e) * * *

(3) * * *

(ii) * * *

(E) Before you begin any trapping activities, you must inform our regional Law Enforcement office of your capture plans. You must notify the office in person, in writing, or via facsimile or email at least 3 business days before you start trapping. You may send an email with your trapping plans to lawenforcement@fws.gov, or you may deliver your trapping plans in person or by mail to the Law Enforcement office in your region at the applicable street address provided at 50 CFR 2.2. Telephone and fax numbers are as follows:

Region | Law enforcement office telephone number | Law enforcement office fax number
1 | 503-231-6125 | 503-231-2193
2 | 505-248-7889 | 505-248-7899
3 | 612-713-5320 | 612-713-5283
4 | 404-679-7057 | 404-679-7065
5 | 413-253-8274 | 413-253-8459
6 | 303-236-7540 | 303-236-7901
7 | 907-786-3311 | 907-786-3313
8 | 916-414-6660 | 916-414-6715

* * * * *

PART 29—LAND USE MANAGEMENT

10. Revise the authority citation for part 29 to read as follows:

Authority: Sec. 2, 33 Stat. 614, as amended, sec. 5, 43 Stat. 651, secs. 5, 10, 45 Stat. 449, 1224, secs. 4, 2, 48 Stat. 402, as amended, 1270, sec. 4, 76 Stat. 645, 80 Stat. 926; 5 U.S.C. 301; 16 U.S.C. 460k, 664, 668dd, 685, 690d, 715i, 725; 43 U.S.C. 315a.

11. Amend § 29.21-2 by:

a. Revising paragraph (a)(1) to read as set forth below; and

b. By removing paragraph (c).

§ 29.21-2 Application procedures.

(a) * * *

(1) No special form of application is required. The application should state the purpose for which the right-of-way is being requested together with the length, width on each side of the centerline, and the estimated acreage. Applications, including exhibits, must be filed in triplicate with the Regional Director for the region in which the State is located. A list of States in each region and the addresses of the regional offices are provided at 50 CFR 2.2.

* * * * *

PART 80—ADMINISTRATIVE REQUIREMENTS, PITTMAN-ROBERTSON WILDLIFE RESTORATION AND DINGELL-JOHNSON SPORT FISH RESTORATION ACTS

12. The authority citation for part 80 continues to read as follows:

Authority: 16 U.S.C. 669-669k; 16 U.S.C. 777-777n, except 777e-1 and g-1.

§ 80.2 [Amended]

13. Amend § 80.2, in the definition of Regional Director, by removing the words “Washington Office” and by adding, in their place, the word “Headquarters”.

PART 84—NATIONAL COASTAL WETLANDS CONSERVATION GRANT PROGRAM

14. The authority citation for part 84 continues to read as follows:

Authority: 16 U.S.C. 3951-3956.

15. Amend § 84.21 by:

a. Amending paragraph (a)(1) by removing the words “Service Regional Federal Aid Offices'” and by adding, in their place, the words “Service Regional Wildlife and Sport Fish Restoration Offices'”;

b. Amending paragraph (a)(2) by removing the words “Federal Aid” and by adding, in their place, the words “Wildlife and Sport Fish Restoration”;

c. Revising paragraph (a)(3) to read as set forth below; and

d. Amending paragraph (b) by removing the words “Regional Federal Aid Offices” and by adding, in their place, the words “Regional Wildlife and Sport Fish Restoration Offices”.

§ 84.21 How do I apply for a National Coastal Wetlands Conservation Grant?

(a) * * *

(3) Send your proposal to “Regional Director (Attention: Wildlife and Sport Fish Restoration)” at the address of the appropriate regional office, as provided at 50 CFR 2.2.

* * * * *

§ 84.30 [Amended]

16. Amend § 84.30:

a. By amending paragraph (a)(1) by:

i. Removing the words “The Regional Federal Aid Offices” and by adding, in their place, the words “The Regional Wildlife and Sport Fish Restoration Offices”; and

ii. Removing the words “the Washington Office” and by adding, in their place, the word “Headquarters”; and

b. By amending paragraph (b) by removing the words “Federal Aid Office” in both places that they appear and by adding, in each place, the words “Wildlife and Sport Fish Restoration Office”.

§ 84.48 [Amended]

17. Amend § 84.48, paragraph (a)(5), by removing the words “Federal Aid program” and by adding, in their place, the words “Wildlife and Sport Fish Restoration program”.

§ 84.49 [Amended]

18. Amend § 84.49, by removing the words “the Washington Office” in both places they appear and by adding, in each place, the word “Headquarters”.

PART 85—CLEAN VESSEL ACT GRANT PROGRAM

19. The authority citation for part 85 continues to read as follows:

Authority: 16 U.S.C. 777g(c).

20. Amend § 85.21 by revising paragraph (a) to read as follows:

§ 85.21 Application procedures.

(a) Eligible applicants will submit their proposals to the appropriate regional office of the U.S. Fish and Wildlife Service. Coastal States submitting proposals for both the coastal zone and the inland portion of their States must submit two separate proposals. The regional office addresses are provided at 50 CFR 2.2. Telephone and fax numbers of the regional offices follow:

Region | Wildlife and sport fish restoration telephone number | Wildlife and sport fish restoration fax number
1 | 503-231-6128 | 503-231-6996
2 | 505-248-7465 | 505-248-7471
3 | 612-713-5130 | 612-713-5290
4 | 404-679-4159 | 404-679-4160
5 | 413-253-8508 | 413-253-8487
6 | 303-236-4411 | 303-236-8192
7 | 907-786-3545 | 907-786-3575
8 | 916-414-6509 | 916-978-6155

* * * * *

§ 85.31 [Amended]

21. Amend § 85.31 by:

a. Removing the words “Division of Federal Aid” in both places they appear and by adding, in each place, the words “Wildlife and Sport Fish Restoration programs”; and

b. Removing the words “Washington Office” and by adding, in their place, the word “Headquarters”.

§ 85.47 [Amended]

22. Amend § 85.47 by:

a. Removing the number “80.26” wherever it appears in paragraph (a), (b), (c), and by adding, in each place, the number “80.99”; and

b. Amending paragraph (c) by removing the words “Federal Aid” and by adding, in their place, the words “Wildlife and Sport Fish Restoration”.

PART 100—SUBSISTENCE MANAGEMENT REGULATIONS FOR PUBLIC LANDS IN ALASKA

23. The authority citation for part 100 continues to read as follows:

Authority: 16 U.S.C. 3, 472, 551, 668dd, 3101-3126; 18 U.S.C. 3551-3586; 43 U.S.C. 1733.

24. Amend § 100.22 by revising paragraph (b) to read as follows:

§ 100.22 Subsistence resource regions.

* * * * *

(b) You may obtain maps delineating the boundaries of subsistence resource regions from the U.S. Fish and Wildlife Service at the Alaska Regional Office address provided at 50 CFR 2.2(g).

* * * * *

25. Amend § 100.23 by:

a. Removing the second sentence of paragraph (a); and

b. Adding paragraph (b) to read as follows:

§ 100.23 Rural determinations.

* * * * *

(b) You may obtain maps delineating the boundaries of nonrural areas from the U.S. Fish and Wildlife Service at the Alaska Regional Office address provided at 50 CFR 2.2(g).

Dated: May 28, 2013.
Rachel Jacobson,
Principal Deputy Assistant Secretary for Fish and Wildlife and Parks.

[FR Doc. 2013-13902 Filed 6-11-13; 8:45 am]

BILLING CODE 4310-55-P